DEPARTMENT OF HEALTH AND HUMAN SERVICES

Administration for Children and Families

Proposed Information Collection Activity; Youth Empowerment Information, Data Collection, and Exploration on Avoidance of Sex (IDEAS) (New Collection)

AGENCY: Office of Planning, Research, and Evaluation; Administration for Children and Families; HHS.

ACTION: Request for public comment.

SUMMARY: The Office of Planning, Research, and Evaluation (OPRE), Administration for Children and Families (ACF), at the U.S. Department of Health and Human Services (HHS), proposes data collection activities as part of the Youth Empowerment IDEAS study. The goal of this project is to collect data that will inform educational topics and strategies for an optimal-health sexual risk avoidance (SRA) approach to reducing teen pregnancy and improving youth well-being. The project will identify strategies, skills, messages, and themes that are most likely to resonate with youth. The project will inform hypotheses on how to increase the effectiveness of sex education approaches so that more youth avoid the risks associated with teen sex, and teen pregnancy rates are reduced. To support these efforts, we seek OMB approval to collect survey information from a nationally-representative sample of youth and young adults age 14-24 and a nationally-representative sample of parents of teens ages 14-18.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

SUPPLEMENTARY INFORMATION:

Description: We propose the following data collection instruments:

(1) Parent Survey: Information collected through the Parent Survey will be used to report on demographics, the parent-child relationship, parents' attitudes and beliefs about youth sex education and sexual behaviors, and parental knowledge about youth sexual risk-taking. We will use both random-digit-dialing and a web survey.

(2) Youth Survey: We will administer a web survey in two parts. Information collected on Part I of the survey will be used to report on demographics, the parent-child relationship, future aspirations, and attitudes and beliefs about youth sexual behavior. Information collected on Part II of the survey will include knowledge about sexual risk, experience with sex education, and sexual risk behaviors.

Respondents: A nationally representative sample of parents of teens ages 14-18 and a nationally representative sample of youth and young adults ages 14-24.

Annual Burden Estimates
Instrument | Total number of respondents | Annual number of respondents | Number of responses per respondent | Average burden hours per response | Annual burden hours
Parent Survey—Screener | 7500 | 2500 | 1 | .083 | 208
Parent Survey—Telephone Mode (RDD) | 600 | 200 | 1 | .500 | 100
Parent Survey—Web | 900 | 300 | 1 | .333 | 100
Part I Youth Web Survey | 1500 | 500 | 1 | .333 | 167
Part II Youth Web Survey | 1200 | 400 | 1 | .333 | 133

Estimated Total Annual Burden Hours: 708.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 510. [42 U.S.C. 710]

Mary B. Jones,
ACF/OPRE Certifying Officer.

[FR Doc. 2019-01566 Filed 2-7-19; 8:45 am]

BILLING CODE 4184-83-P